DEPARTMENT OF THE INTERIOR

National Park Service

[N6838; NPS-WASO-NAGPRA-NPS0041699; PPWOCRADN0-PCU00RP14.R50000]

Notice of Intended Repatriation: Pacific Grove Museum of Natural History, Pacific Grove, CA

AGENCY: National Park Service, Interior.

ACTION: Notice.

SUMMARY: In accordance with the Native American Graves Protection and Repatriation Act (NAGPRA), the Pacific Grove Museum of Natural History intends to repatriate certain cultural items that meet the definition of sacred objects and that have a cultural affiliation with the Indian Tribes or Native Hawaiian organizations in this notice.

DATES: Repatriation of the cultural items in this notice may occur on or after February 6, 2026.

ADDRESSES: Send additional, written requests for repatriation of the cultural items in this notice to Rachel M. Miller, Pacific Grove Museum of Natural History, 165 Forest Avenue, Pacific Grove, CA 93950, email miller@pgmuseum.org.

SUPPLEMENTARY INFORMATION: This notice is published as part of the National Park Service's administrative responsibilities under NAGPRA. The determinations in this notice are the sole responsibility of the Pacific Grove Museum of Natural History and additional information on the determinations in this notice, including the results of consultation, can be found in the summary or related records. The National Park Service is not responsible for the determinations in this notice.

Abstract of Information Available

A total of 12 cultural items have been requested for repatriation. The 12 sacred objects are one buffalo horn powder horn, one buckskin dress, three pairs of moccasins, one beaded bag, one object with two buffalo horns and beaded fringe, one pair of leggings, one dance club, one awl case, one leather tassel and one beaded doll bonnet. According to available documentation these items were collected by individuals including William Chapman, Mrs. M.L. Reynolds, Almira Olmstead, Edgar Gross, Lydia Goodale Fogg, Joseph Shebl and George Higgins in South Dakota, Montana and Wisconsin in the first half of the twentieth century. There are no available records indicating whether or not any potentially hazardous substances were used to treat any of these cultural items.

Determinations

The Pacific Grove Museum of Natural History has determined that:

• The 12 sacred objects described in this notice are specific ceremonial objects needed by a traditional Native American religious leader for present-day adherents to practice traditional Native American religion, according to the Native American traditional knowledge of a lineal descendant, Indian Tribe, or Native Hawaiian organization.

• There is a connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 6, 2026. If competing requests for repatriation are received, the Pacific Grove Museum of Natural History must determine the most appropriate requestor prior to repatriation. Requests for joint repatriation of the cultural items are considered a single request and not competing requests. The Pacific Grove Museum of Natural History is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00069 Filed 1-6-26; 8:45 am]

BILLING CODE 4312-52-P